DEPARTMENT OF EDUCATION

Reading First Advisory Committee; Notice of Establishment

AGENCY: Department of Education, Office of Elementary and Secondary Education.

ACTION: Notice of Establishment of the Reading First Advisory Committee.

SUMMARY: The Secretary announces her intention to establish the Reading First Advisory Committee. The Federal Advisory Committee Act (FACA) (Pub. L. 92-463 as amended; 5 U.S.C. Appendix 2) will govern the Committee.

Purpose: Sections 1203(c)(2)(A) and 1202(e)(2) of the Elementary and Secondary Education Act of 1965, as amended (ESEA) authorize the Secretary of Education to establish a panel to evaluate State Reading First applications and to review third-year progress reports submitted by States under the Reading First program. The activities of the panel (hereinafter referred to as the “Committee”) will be governed by FACA.

States submitted their Reading First applications to the Department in 2002 and 2003. Currently, the Department has approved the Reading First applications of all applicants but one. The Committee will evaluate this remaining application and, at the request of the Department, may review issues identified in other State applications.

States submitted their third-year progress reports to the Department on or before November 30, 2006. The reports include, among other things, information on the progress State educational agencies and local educational agencies are making in reducing the number of students served under the Reading First program in grades 1, 2, and 3 who are reading below grade level. By statute, the Committee will review these reports. In addition, the Committee may advise the Secretary on other issues that the Secretary deems appropriate.

By statute, the Committee will consist, at a minimum, of three individuals selected by each of the following: the Secretary of Education, the National Institute for Literacy, the National Research Council of the National Academy of Sciences, and the National Institute of Child Health and Human Development.

Any non-Federal members of the Committee will serve as Special Government Employees (SGEs). Committee members will serve for a period of three years or until the date of reauthorization of the ESEA, whichever is earlier. The Committee will choose one of its members to serve as the chairperson. The Team Leader of the Reading First program will serve as the Designated Federal Officer (DFO) for the Committee. As appropriate, the Committee may form one or more subcommittees to assist it with its functions.

For Additional Information: Contact Maria Worthen, U.S. Department of Education, 400 Maryland Avenue, SW., Washington, DC 20202, Telephone: (202) 205-5632.

Dated: February 23, 2007.
Margaret Spellings,
Secretary of Education.

[FR Doc. E7-3590 Filed 2-28-07; 8:45 am]

BILLING CODE 4000-01-P